DEPARTMENT OF HOUSING AND URBAN DEVELOPMENT

[Docket No. FR-5995-N-07]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AGRICULTURE: Ms. Debra Kerr, Department of Agriculture, OPPM, Property Management Division, Agriculture South Building, 300 7th Street SW., Washington, DC 20024, (202) 720-8873; COE: Ms. Brenda Johnson-Turner, HQUSACE/CEMP-CR, 441 G Street NW., Washington, DC 20314, (202) 761-7238; GSA: Mr. Flavio Peres, General Services Administration, Office of Real Property Utilization and Disposal, 1800 F Street NW., Room 7040 Washington, DC 20405, (202) 501-0084; NASA: Mr. William Brodt, National Aeronautics AND Space Administration, 300 E Street SW., Room 2P85, Washington, DC 20546, (202) 358-1117; NAVY: Ms. Nikki Hunt, Department of the Navy, Asset Management Division, Naval Facilities Engineering Command, Washington Navy Yard, 1330 Patterson Ave. SW., Suite 1000, Washington, DC 20374, (202) 685-9426; (These are not toll-free numbers).

Dated: February 9, 2017.
Brian P. Fitzmaurice,
Director, Division of Community Assistance, Office of Special Needs Assistance Programs.

TITLE V, FEDERAL SURPLUS PROPERTY PROGRAM FEDERAL REGISTER REPORT FOR 02/17/2017

Suitable/Available Properties

Building

California

14 Buildings

4675 Ponderosa Dr.

Lake Isabella CA 92340

Landholding Agency: Agriculture

Property Number: 15201710002

Status: Underutilized

Directions: OVER LOOK TB (324 sq. ft.), LAKE ISA. ADMIN OFFICE (3520 sq. ft.), LAKE ISA. ADMIN OFFICE ADDITION (1750 sq. ft.), LAKE ISA. FIRE ENGINE STATION (2184 sq. ft.), LAKE ISA. WELDING SHOP (638 sq. ft.), LAKE ISA. WOOD SHOP (2004 sq. ft.), LAKE ISA. ADMIN OFFICE (750 sq. ft.), LAKE ISA. W/C STEEL BLDG (1,000 sq. ft.), LAKE ISA. PLUMBING SUPPLY BLDG (128 sq. ft.), LAKE ISA. PAINT STORAGE BLDG (130 sq. ft.), LAKE ISA. SMALL ENGINE BLDG (34 sq. ft.), LAKE ISA. JANITORIAL SUPPLY BLDG (36 sq. ft.), LAKE ISA. ELECTRICAL SUPPLY BLDG (64 sq. ft.), LAKE ISA. OIL & GREASE SUPPLY BLDG. (80 sq. ft.), RAPPEL TOWER (200 sq. ft.)?

Comments: off-site removal only; no future agency need; removal extremely difficult due to size/type; storage/warehouse/office; contact Agriculture for more details on a property listed above.

North Carolina

Davidson River Bath House #2

Hemloop Loop (070011)

35°16′58.06″ N. 82°43′16.92″ W.

Pisgah Forest NC 28768

Landholding Agency: Agriculture

Property Number: 15201710003

Status: Excess

Comments: off-site removal only; difficult to removal due to concrete foundation; 391 sq. ft.; renovations needed; contact Agriculture for more information.

Land

North Carolina

Outlaying Land Field (OLF)

Naval Air Station (NAS) Oceana (Parcel 003)

NAS NC

Landholding Agency: GSA

Property Number: 54201710009

Status: Surplus

GSA Number: 4-D-NC-0831-AB

Directions: Landholding Agency: Navy; Disposal Agency: Navy

Comments: 558.4 acres; agricultural use; 100% currently occupied; license for agricultural use expires 12/31/17 w/gov't retaining termination rights upon providing license 60-day written notice.

Outlaying Land Field (OLF)

Naval Air Station (NAS) Oceana (Parcel 002)

NAS NC

Landholding Agency: GSA

Property Number: 54201710010

Status: Surplus

GSA Number: 4-D-NC-0831-AA

Directions: Landholding Agency: Navy; Disposal Agency: GSA

Comments: 463 acres; agricultural use; currently 100% occupied; license for agricultural use expires 03/31/2017 w/gov't retaining termination rights upon providing licenses 60-day written notice.

Unsuitable Properties

Building

California

Area 1 & Area 2

Naval Weapons Station

Seal Beach Detachment Norco

Norco CA 92860

Landholding Agency: Navy

Property Number: 77201710008

Status: Unutilized

Directions: Area 1 (8.5 acres) and Area 2 (10 acres)

Comments: public access denied and no alternative method to gain access without compromising national security.

Reasons: Secured Area

North Carolina

Outlying Landing Field (OLF)

(NAS) Oceana (Parcel 007A)

Naval Air Station NC

Landholding Agency: GSA

Property Number: 54201710011

Status: Surplus

GSA Number: 4-D-NC-0831-AE

Directions: Landholding Agency: Navy; Disposal Agency: GSA

Comments: abandoned for 12+ yrs.; overgrown by vegetation makes access extremely difficult.

Reasons: Extensive deterioration

Outlaying Land Field (OLF)

Naval Air Station (NAS) Oceana (Parcel 007)

NAS NC

Landholding Agency: GSA

Property Number: 54201710012

Status: Surplus

GSA Number: 4-D-NC-0831-AD

Directions: Landholding Agency: Navy; Disposal Agency: GSA

Comments: abandoned for 12+ yrs.; overgrown by vegetation makes access extremely difficult.

Reasons: Extensive deterioration

Outlaying Land Field (OLF)

Naval Air Station (NAS) Oceana Parcel 004

NAS NC

Landholding Agency: GSA

Property Number: 54201710013

Status: Surplus

GSA Number: 4-D-NC-0831-AC

Directions: Landholding Agency: Navy; Disposal Agency: GSA

Comments: documented deficiencies: severe dilapidated; bldg. is most likely to collapse due to the deteriorated state.

Reasons: Extensive deterioration

Ohio

8133, Pump Station No. 1

Glenn Research Center

Sandusky OH 44870

Landholding Agency: NASA

Property Number: 71201710006

Status: Unutilized

Comments: public access denied and no alternative method to gain access without compromising national security.

Reasons: Secured Area

Texas

Waco Lake; Twin Bridges

Park Gatehouse

3201 N. Hwy 6.

Waco TX 76712

Landholding Agency: COE

Property Number: 31201710003

Status: Excess

Directions: Public access denied and no alternative method to gain access without compromising national security.

Comments: gatehouse is separating in the middle & frame work on exterior is falling due to shifting/settling of the foundation. Severe water damage due to flooding.

Reasons: Extensive deterioration; Secured Area

Texas

Waco Lake; Airport Park

Restroom #2-WA 26059

4600 Skeet Eason Rd.

Waco TX 76708

Landholding Agency: COE

Property Number: 31201710004

Status: Excess

Directions: Public access denied and no alternative method to gain access without compromising national security.

Comments: separating in the middle and frame work on exterior is falling due to shifting/settling of the foundation.

Reasons: Extensive deterioration; Secured Area

[FR Doc. 2017-02937 Filed 2-16-17; 8:45 am]

BILLING CODE 4210-67-P